DEPARTMENT OF THE INTERIOR

Bureau of Reclamation

Implementation Agreement for Secretarial Actions Associated With California Parties' Proposed Quantification Settlement Agreement and Other Related Federal Actions, including Implementation of an Inadvertent Overrun Policy, Lower Colorado River, Arizona, California, and Nevada

AGENCY: Bureau of Reclamation, Interior.

ACTION: Notice of intent to prepare an environmental impact statement (EIS) and initiation of scoping process.

SUMMARY: Pursuant to the National Environmental Policy Act (NEPA) of 1969, as amended, and the Council on Environmental Quality's Regulations for Implementing the Procedural Provisions of NEPA, the Bureau of Reclamation (Reclamation) proposes to prepare an environmental impact statement (EIS) concerning execution of an Implementation Agreement (IA), and implementation of other interrelated Federal actions. The IA is required to implement actions by the Secretary of the Interior (Secretary), that are necessary to make operative a proposed Colorado River Quantification Settlement Agreement (QSA) among certain California water agencies that hold contracts with the Secretary, for delivery of Colorado River water. The EIS will describe the potential environmental consequences of the following: Secretarial execution of the IA which, generally, would result in a change in the point of delivery of up to approximately 400,000 acre-feet (AF) of Colorado River water per year; implementation of a lower Colorado River inadvertent overrun accounting and payback policy (IOP), intended to be implemented for a 30-year time period (see Federal Register, Vol. 66, No. 12, pages 4856-4858); and implementation of biological conservation measures related to the IA that were identified in the Fish and Wildlife Service's (FWS) “Biological Opinion for Interim Surplus Criteria, Secretarial Implementation Agreements, and Conservation Measures on the Lower Colorado River, Lake Mead to the Southerly International Boundary Arizona, California and Nevada,” (Biological Opinion), dated January 12, 2001. This is to provide notice to potentially interested entities and the public regarding Reclamation's intent to prepare an EIS, and to request comments regarding the scope of the issues to be addressed and identification of significant issues related to the proposed action.

ADDRESSES: Send written comments concerning the proposed action or issues to be addressed in the EIS to Mr. Bruce D. Ellis, Phoenix Area Office, Bureau of Reclamation, PXAO-1500, P.O. Box 81169, Phoenix AZ 85069-1169, with a copy to Ms. Gracie Chirieleison, Lower Colorado Region, Bureau of Reclamation, BCOO-1001, P.O. Box 61470, Boulder City, NV 89006-1470. Comments should be received by April 10, 2001.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Questions concerning the process, potential alternatives, or this notice should be directed to Mr. Ellis at the Phoenix Area Office address above, telephone (602) 216-3854. To be placed on a mailing list for any subsequent information, please write or telephone Ms. Chirieleison at the Lower Colorado Regional Office address above, telephone (702) 293-8415 or fax (702) 293-8156.

SUPPLEMENTARY INFORMATION: Reclamation intends to prepare an EIS to describe the potential environmental consequences that would result from execution of the proposed IA with Coachella Valley Water District (CVWD), Imperial Irrigation District (IID), The Metropolitan Water District of Southern California (MWD), and San Diego County Water Authority (SDCWA) (collectively referred to as the “California Parties”). The IA enumerates Secretarial approvals and/or actions that are needed to implement the proposed QSA. The proposed QSA is a consensual agreement among the California Parties for distribution and use of Colorado River water for a period of up to 75 years. The QSA is anticipated to be considered by the boards of directors of IID, CVWD, and MWD by December 2001, following completion of a final environmental impact report regarding implementation of the QSA. The QSA and IA are integral to the successful implementation of California's Draft Colorado River Water Use Plan (CA Plan), released for public review by the Colorado River Board of California. The purpose of the CA Plan is to ensure California limits its annual use of Colorado River water, starting in year 2016, to no more than 4,400,000 AF per year in normal years. Normal years are those in which 7,500,000 acre-feet are made available by the Secretary for beneficial consumptive use collectively in Lower Colorado River Division States (Arizona, California, and Nevada). The Department of Interior believes the proposed QSA cannot be lawfully carried out absent a fully executed IA.

Federal actions identified in the IA to be covered by the EIS include approving changes in the point of delivery of up to approximately 400,000 AF of Colorado River water annually, from Imperial Dam to the intake of the Colorado River Aqueduct (CRA), located in Lake Havasu upstream of Parker Dam. Of this amount, between 130,000 and 300,000 AF per year would be made available through conservation by IID. Of the total amount conserved by IID, between 130,000 and 200,000 AF per year would be transferred to SDCWA. In accordance with an IID/SDCWA Water Transfer Agreement, SDCWA and MWD have executed an Exchange Agreement providing for delivery of the conserved water into the CRA and the delivery of a like amount of water to SDCWA through MWD's facilities. Through the QSA, an additional amount of up to 100,000 AF per year of water to be conserved by IID, would be made available to CVWD and, if not used by CVWD, to MWD. The change in the point of delivery of up to an additional 93,700 AF per year of Colorado River water would be authorized upon the conservation of an equal amount of water through the concrete lining of portions of the All American Canal (AAC) and Coachella Canal (CC). This conserved water would be used by MWD and the San Luis Rey Indian Water Rights Settlement parties in accordance with the terms of a proposed Allocation Agreement.

Under the EIS' proposed action, in addition to the change in the point of delivery of Colorado River water, the Secretary, as Water Master, would deliver Priority 3a Colorado River contract water to IID in quantified amounts not to exceed 3,100,000 AF per year, less the amount of water conserved by IID and by the All American Canal Lining Project. The Secretary would also deliver Priority 3a Colorado River contract water to CVWD in quantified amounts not to exceed 330,000 AF per year exclusive of amounts associated with water conserved by IID and made available to CVWD and amounts exchanged by MWD with CVWD, less the amount of water conserved by the Coachella Canal Lining Project. This quantification would result from execution of the IA, in conjunction with the QSA.

The EIS will also address potential effects of implementing an inadvertent overrun accounting and payback policy (IOP) regarding use of Colorado River by the Lower Colorado River Division States. In addition, the EIS will programmatically address the implementation of biological conservation measures related to the IA that have been identified in the FWS' Biological Opinion dated January 12, 2001.

The project area of the EIS will generally include the lower Colorado River and its 100-year floodplain between Lake Mead and the southerly international boundary. The EIS will address effects in river flow between these two points along the lower Colorado River that would occur from the suite of Federal approvals/actions included in the Proposed Action. Changes in river flow could, in turn, potentially affect resources along the river (e.g., biological, cultural and recreational), Colorado River water quality, and power generation at Parker and Headgate Rock power plants. The EIS will also incorporate, by reference, analyses identified in various other NEPA and California Environmental Quality Act (CEQA) documents related to local and regional effects resulting from implementation of the QSA.

As indicated above, Reclamation received the Biological Opinion from the FWS and has completed Endangered Species Act (ESA) consultation requirements for the transfer of water and change in its point of delivery from Imperial Dam to Lake Havasu, and for the previously referenced conservation measures associated with the water transfers. Reclamation will work with the FWS, as appropriate, to determine if additional ESA compliance is necessary.

Having reached agreement through the QSA, the California Parties are requesting Secretarial execution of the IA, which constitutes the proposed action that will be described in the EIS. A No Action Alternative will be included, against which potential environmental consequences resulting from implementing the proposed Federal actions will be compared.

Reclamation is circulating this notice to provide the public with an opportunity to identify issues and concerns regarding this proposed action, to ensure that all relevant issues are evaluated in the EIS. All comments received in response to Reclamation's request for comments on the IOP, found in the Federal Register, Vol. 66, No. 12, pages 4856-4858, will also be taken into consideration as part of the scoping process for this EIS. Reclamation will consult other Federal, State, Tribal and local agencies having specific expertise regarding environmental impacts related to the proposed actions.

Dated: March 2, 2001.
Lorri J. Gray,
Assistant Regional Director.

[FR Doc. 01-5909 Filed 3-8-01; 8:45 am]

BILLING CODE 4310-MN-P